FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Trans Pacific Inc., Fuchi Build, 4th Fl., 19-1 Tsukishima, 1-Chrome Chuo-Ku. Tokyo. Officer: Akira Sakonjo, President (Qualifying Individual)

West Coast Logistics Inc., 29 Broadway, Suite 1506, New York, NY 10005. Officers: Janette Taylor, Treasurer (Qualifying Individual), U. Panicker, President

Akins International, Inc., 1890 Timber Lane, Glendale Heights, IL 60139. Officers: Lynn A. Akins, President (Qualifying Individual), Erin E. Akins, Vice President

Cyberfreight Inc., 1029 Madison Avenue, 4th Floor, New York, NY 10021. Officers: Joel Barnehama, CEO (Qualifying Individual), Michael Aryeh, Secretary

EAFF (USA) Inc., 2200 N.W. 110th Avenue, Miami, FL 33172. Officers: Joseph Velez, Corporate Officer (Qualifying Individual), Rodolfo Juan Claudio Sagel, President

Cargo Transport, Inc., 44190 Mercure Circle, Suite 195, Dulles, VA 20166. Officers: David Bernhardt, Vice President (Qualifying Individual), Peter O'Rorke, President

Elite Ocean Cargo, Inc., 16303 Air Center Blvd., Houston, TX 77032. Officers: Larry Earley, Vice President (Qualifying Individual), Bobby Hale, President

WorldPoint Logistics, Inc. d/b/a President Container Lines, 40 Parker Road, Suite 201, Elizabeth, NJ 07207. Officers: Daniel T. Petrosini, President (Qualifying Individual), Jack P. Edwards, CEO

C & A Shipping, Inc., 210 Route 4 East, Suite 307, Paramus, NJ 07652. Officers: Dazu Yang, CFO (Qualifying Individual), Yaqing Li, President

Ocean Freight Forwarders—Ocean Transportation Intermediary Applicants

JCOB & Co., Inc., 171 Armstrong Road, Des Plaines, IL 60018. Officer: Hyung Kook, Lee, President (Qualifying Individual)

Dated: April 21, 2000.
Theodore A. Zook,
Assistant Secretary.

[FR Doc. 00-10445 Filed 4-26-00; 8:45 am]

BILLING CODE 6730-01-P